DEPARTMENT OF STATE

[Delegation of Authority No. 460]

Delegation of Authority Payment of Rewards

By virtue of the authority vested in the Secretary of State by the laws of the United States, including 22 U.S.C. 265l(a) and 22 U.S.C. 2708(e), I hereby delegate to the Assistant Secretary for Diplomatic Security, to the extent authorized by law, authority to approve the payment of rewards of $100,000 or less as recommended by the relevant Interagency Rewards Committee.

Approval of such rewards will be in accordance with 22 U.S.C. 2708 and Volume 12 of the Foreign Affairs Manual Subchapter 228.

Any authorities covered by this delegation may also be exercised by the Secretary, the Deputy Secretary, and the Under Secretary for Management. Nothing in this delegation of authority shall be deemed to supersede any existing delegation of authority, which shall remain in full force and effect during and after this delegation.

This memorandum shall be published in the Federal Register.

Dated: June 4, 2018.
Michael R. Pompeo,
Secretary of State.

Note: The Office of the Federal Register received this document on September 13, 2018.

[FR Doc. 2018-20284 Filed 9-17-18; 8:45 am]

BILLING CODE 4710-43-P